NATIONAL AERONAUTICS AND SPACE ADMINISTRATION

48 CFR parts 1815, 1819, and 1852

Elimination of Elements as a Category in Evaluations

AGENCY: National Aeronautics and Space Administration (NASA).

ACTION: Final Rule.

SUMMARY: This final rule amends the NASA FAR Supplement (NFS) by eliminating the term “elements” as a category in evaluations. NASA does not numerically weight and score “elements” and therefore they have ceased to have significance in the evaluation and award of NASA's contracts.

EFFECTIVE DATE: May 10, 2000.

FOR FURTHER INFORMATION CONTACT: Paul Brundage, (202) 358-0481, email: pbrundage@hq.nasa.gov.

SUPPLEMENTARY INFORMATION:

A. Background

A proposed rule was published in the Federal Register on December 16, 1999 (64 FR 70208-70209). No comments were received. This final rule adopts the proposed rule without change.

B. Regulatory Flexibility Act

NASA certifies that this rule will not have a significant economic impact on a substantial number of small business entities within the meaning of the Regulatory Flexibility Act (5 U.S.C. 601 et seq.) because the change modifies administrative procedures and does not impose any new requirements on offerors or contractors.

C. Paperwork Reduction Act

The Paperwork Reduction Act does not apply because the changes to the NFS do not impose record keeping or information collection requirements, or collections of information from offerors, contractors, or members of the public which require the approval of the Office of Management and Budget under 44 U.S.C. 3501, et seq.

Lists of Subjects in 48 CFR Parts 1815, 1819, and 1852

Government procurement.

Tom Luedtke,
Associate Administrator for Procurement.

Accordingly, 48 CFR parts 1815, 1819, and 1852 are amended as follows:

1. The authority citation for 48 CFR Parts 1815, 1819, and 1852 continues to read as follows:

Authority: 42 U.S.C. 2473(c)(1).

PART 1815—CONTRACTING BY NEGOTIATION

1815.303 [Amended]

2. In section 1815.303, paragraph (b)(i)(A) is amended by removing the words “and elements,”.

3. In section 1815.304-70, paragraphs (a) and (b) are revised to read as follows:

1815.304-70 NASA evaluation factors.

(a) Typically, NASA establishes three evaluation factors: Mission Suitability, Cost/Price, and Past Performance. Evaluation factors may be further defined by subfactors. Evaluation subfactors should be structured to identify significant discriminators, or “key swingers”—the essential information required to support a source selection decision. Too many subfactors undermine effective proposal evaluation. All evaluation subfactors should be clearly defined to avoid overlap and redundancy.

(b) Mission Suitability factor. (1) This factor indicates the merit or excellence of the work to be performed or product to be delivered. It includes, as appropriate, both technical and management subfactors. Mission Suitability shall be numerically weighted and scored on a 1000-point scale.

(2) The Mission Suitability factor may identify evaluation subfactors to further define the content of the factor. Each Mission Suitability subfactor shall be weighted and scored. The adjectival rating percentages in 1815.305(a)(3)(A) shall be applied to the subfactor weight to determine the point score. The number of Mission Suitability subfactors is limited to five. The Mission Suitability evaluation subfactors and their weights shall be identified in the RFP.

(3) For cost reimbursement acquisitions, the Mission Suitability evaluation shall also include the results of any cost realism analysis. The RFP shall notify offerors that the realism of proposed costs may significantly affect their Mission Suitability scores.

* * * * *

4. In section 1815.370, paragraphs (b), (d)(4), and (h)(2) are revised; paragraph (h)(3)(ii) is amended by removing “elements,”; paragraph (i)(3) is amended by removing “and elements,”; and paragraphs (i)(6)(ii) and (i)(7) are revised to read as follows:

1815.370 NASA source evaluation boards.

* * * * *

(b) The SEB assists the SSA by providing expert analyses of the offerors' proposals in relation to the evaluation factors and subfactors contained in the solicitation. The SEB will prepare and present its findings to the SSA, avoiding trade-off judgments among either the individual offerors or among the evaluation factors. The SEB will not make recommendations for selection to the SSA.

* * * * *

(d) * * *

(4) An SEB committee functions as a factfinding arm of the SEB, usually in a broad grouping of related disciplines (e.g., technical or management). The committee evaluates in detail each proposal, or portion thereof, assigned by the SEB in accordance with the approved evaluation factors and subfactors and summarizes its evaluation in a written report to the SEB. The committee will also respond to requirements assigned by the SEB, including further justification or reconsideration of its findings. Committee chairpersons shall manage the administrative and procedural matters of their committees.

* * * * *

(h) * * *

(2) The presentation shall focus on the significant strengths, deficiencies, and significant weaknesses found in the proposals, the probable cost of each proposal, and any significant issues and problems identified by the SEB. This presentation must explain any applicable special standards of responsibility; evaluation factors and subfactors; the significant strengths and significant weaknesses of the offerors; the Government cost estimate, if applicable; the offerors' proposed cost/price; the probable cost; the proposed fee arrangements; and the final adjectival ratings and scores to the subfactor level.

* * * * *

(i) * * *

(6) * * *

(ii) Directly relate the significant strengths, deficiencies, and significant weaknesses to the evaluation factors and subfactors.

* * * * *

(7) Final Mission Suitability Ratings and Scores. Summarizes the evaluation subfactors, the maximum points achievable, and the scores of the offerors in the competitive range.

* * * * *

PART 1819—SMALL BUSINESS PROGRAMS

1819.7206 [Amended]

5. In section 1819.7206, paragraph (a) is amended by removing the words “or element”.

PART 1852—SOLICITATION PROVISIONS AND CONTRACT CLAUSES

1852.217-71 [Amended]

6. In section 1852.217-71, “(OCTOBER 1998)” is revised to read “(MAY 2000)”, and paragraph (g) is amended by removing the words “and elements”.

1852.217-72 [Amended]

7. In section 1852.217-72, “(OCTOBER 1998)” is revised to read “(MAY 2000)”, and paragraph (g) is amended by removing the words “and elements”.

[FR Doc. 00-11729 Filed 5-9-00; 8:45 am]

BILLING CODE 7510-01-P